DEPARTMENT OF HEALTH AND HUMAN SERVICES

Food and Drug Administration

[Docket No. 94G-0267]

Fuji Oil Co., Ltd.; Withdrawal of GRAS Affirmation Petition

AGENCY: Food and Drug Administration, HHS.

ACTION: Notice.

SUMMARY: The Food and Drug Administration (FDA) is announcing the withdrawal, without prejudice to a future filing, of a petition (GRASP 4G0407) proposing to affirm that the use of a triglyceride containing behenic and oleic acids is generally recognized as safe (GRAS) as a tempering aid and as an antibloom agent in chocolate and chocolate coatings.

FOR FURTHER INFORMATION CONTACT: Parvin M. Yasaei, Center for Food Safety and Applied Nutrition (HFS-215), Food and Drug Administration, 200 C St. SW., Washington, DC 20204, 202-418-3023.

SUPPLEMENTARY INFORMATION: In a notice published in the Federal Register of August 17, 1994 (59 FR 42278), FDA announced that a petition (GRASP 4G0407) had been filed by Fuji Oil Co., Ltd., Osaka, Japan. This petition proposed that the use of a triglyceride containing behenic and oleic acids as a tempering aid and as an antibloom agent in chocolate and chocolate coatings be affirmed as GRAS. Fuji Oil Co., Ltd., has now withdrawn the petition without prejudice to a future filing (21 CFR 171.7).

Dated: September 27, 2000.
Alan M. Rulis,
Director, Office of Premarket Approval, Center for Food Safety and Applied Nutrition.

[FR Doc. 00-26252 Filed 10-12-00; 8:45 am]

BILLING CODE 4160-01-F